DEPARTMENT OF DEFENSE

Office of the Secretary

Defense Advisory Committee on Women in the Services; Notice of Federal Advisory Committee Meeting

AGENCY: Office of the Under Secretary of Defense for Personnel and Readiness, Department of Defense (DoD).

ACTION: Notice of Federal advisory committee meeting.

SUMMARY: The DoD is publishing this notice to announce that the following Federal Advisory Committee meeting of the Defense Advisory Committee on Women in the Services (DACOWITS) will take place.

DATES: DACOWITS will hold an open to the public meeting—Tuesday, December 10, 2024, from 8 a.m. to 12:15 p.m. (EST). Wednesday, December 11, 2024, from 8 a.m. to 11:30 a.m. (EST).

ADDRESSES: The meeting will take place at the Association of the United States Army Conference Center, located at 2425 Wilson Boulevard, Arlington, Virginia 22201. The meeting will also be streamed virtually. To participate in the meeting, see the Meeting Accessibility section for instructions.

FOR FURTHER INFORMATION CONTACT: Colonel Seana Jardin, Designated Federal Officer (DFO), (703) 697-2122 (voice), seana.m.jardin.mil@army.mil (email). The most up-to-date changes to the meeting agenda can be found on the website: https://dacowits.defense.gov.

SUPPLEMENTARY INFORMATION: This meeting is being held under the provisions of chapter 10 of title 5, United States Code (U.S.C.) (commonly known as the “Federal Advisory Committee Act” or “FACA”), 5 U.S.C. 552b (commonly known as the “Government in the Sunshine Act”), and 41, Code of Federal Regulations (CFR) sections 102-3.140 and 102-3.150.

Availability of Materials for the Meeting: Additional information, including the agenda or any updates to the agenda, is available at the DACOWITS website, https://dacowits.defense.gov/. Materials presented in the meeting may also be obtained on the DACOWITS website.

Purpose of the Meeting: The purpose of the meeting is for the DACOWITS to receive briefings and have discussions on topics related to the recruitment, retention, employment, integration, well-being, and treatment of women in the Armed Forces of the United States.

Agenda: Tuesday, December 10, 2024, from 8 a.m. to 12:15 p.m.—Welcome; Introductions; Announcements; Request for Information Status Update; Briefing from the Office of People Analytics on Current Market Surveys; Briefings from Military Personnel Policy and the Military Services on Flexibility and Permeability; Briefing from the Navy on Women in Submarines; and a Public Comment Period from 12 p.m. to 12:15 p.m.

Wednesday, December 11, 2024, from 8 a.m. to 11:30 a.m.—Welcome; Introductions; Announcements; Awards Ceremony; Briefing from the Defense Health Agency and the Military Services on Eating Disorders; and Briefing from the Defense Health Agency and the Military Services on Perimenopause, Menopause, and Hormonal Imbalance.

Meeting Accessibility: Pursuant to 5 U.S.C. 552b and 41 CFR 102-3.140 through 102-3.165, this meeting is open to the public, subject to availability of space, from 8 a.m. to 12:15 p.m. on December 10, 2024, and from 8 a.m. to 11:30 a.m. on December 11, 2024. The meeting will also be streamed by videoconference. The number of participants is limited and is on a first-come basis. Any member of the public who wishes to participate via videoconference must register by contacting DACOWITS at osd.pentagon.ousd-p-r.mbx.dacowits@mail.mil or by contacting Mr. Robert Bowling at (703) 380-0116 no later than Tuesday, December 3, 2024. Once registered, the videoconference information will be provided.

Special Accommodations: Individuals requiring special physical or electronic accommodations to access the public meeting should contact Mr. Robert Bowling no later than Tuesday, December 3, 2024, so appropriate arrangements can be made.

Written Statements: Pursuant to 41 CFR 102-3.140, and section 10(a)(3) of the FACA, interested persons may submit a written statement to the DACOWITS pertaining to its overall mission/scope or in response to the approved meeting agenda announced in this notice. Individuals submitting a written statement must submit their statement no later than 5 p.m., Tuesday, December 3, 2024, to Mr. Robert Bowling (703) 380-0116 (voice) or to osd.pentagon.ousd-p-r.mbx.dacowits@mail.mil. Mailing address is 4800 Mark Center Drive, Suite 06E22, Alexandria, VA 22350. Members of the public interested in making an oral statement must submit a written statement of their comments. If a statement is not received by Tuesday, December 3, 2024, it may not be provided to or considered by the Committee during this quarterly business meeting. After reviewing the written statements, the Chair and the DFO will determine if the requesting persons are permitted to make an oral presentation. Oral presentations will be limited to two minutes. The DFO will review all timely submissions with the DACOWITS Chair and will provide to all members of the Committee.

Dated: November 13, 2024.
Aaron T. Siegel,
Alternate OSD Federal Register Liaison Officer, Department of Defense.

[FR Doc. 2024-26862 Filed 11-18-24; 8:45 am]

BILLING CODE 6001-FR-P